DEPARTMENT OF COMMERCE

National Oceanic and Atmospheric Administration

RIN 0648-XC745

Pacific Fishery Management Council; Public Meeting

AGENCY: National Marine Fisheries Service (NMFS), National Oceanic and Atmospheric Administration (NOAA), Commerce.

ACTION: Notice of public meeting.

SUMMARY: The Pacific Fishery Management Council's (Pacific Council) South of Humbug Policy Committee (Policy Committee) for Pacific halibut will hold a working meeting, which is open to the public.

DATES: The Policy Committee meeting will be held Tuesday, July 30, 2013 from 10 a.m. until business for the day is completed.

ADDRESSES: The meeting will be held at the Pacific Council Office, Large Conference Room, 7700 NE Ambassador Place, Suite 101, Portland, OR 97220-1384 telephone: (503) 820-2280. In addition to the Pacific Council office, listening and public comment stations may be available. Please contact the Council office, (503) 820-2280, or our Web site (www.pcouncil.org) for more information.

Council address: Pacific Fishery Management Council, 7700 NE Ambassador Place, Suite 101, Portland, OR 97220-1384.

FOR FURTHER INFORMATION CONTACT: Ms. Kelly Ames, Staff Officer, Pacific Council; telephone: (503) 820-2280.

SUPPLEMENTARY INFORMATION: The overarching goals of the Policy Committee meeting are to evaluate measures for controlling recreational catch of Pacific halibut south of Humbug Mountain (southern Oregon and northern California) to comply with the allocation provisions of the Catch Sharing Plan and the overall total allowable catch apportioned to Area 2A. No management actions will be decided by the Policy Committee. The Policy Committee's task will be to develop recommendations for Council consideration at their September 2013 meeting in Boise, ID.

Although non-emergency issues not contained in the meeting agenda may come before the Policy Committee for discussion, those issues may not be the subject of formal action during this meeting. Policy Committee action will be restricted to those issues specifically listed in this notice and any issues arising after publication of this notice that require emergency action under section 305(c) of the Magnuson-Stevens Fishery Conservation and Management Act, provided the public has been notified of the Policy Committee's intent to take final action to address the emergency.

Special Accommodations

This meeting is physically accessible to people with disabilities. Requests for sign language interpretation or other auxiliary aids should be directed to Mr. Kris Kleinschmidt at (503) 820-2280 at least 5 days prior to the meeting date.

Dated: July 2, 2013.
Tracey L. Thompson,
Acting Deputy Director, Office of Sustainable Fisheries, National Marine Fisheries Service.

[FR Doc. 2013-16290 Filed 7-5-13; 8:45 am]

BILLING CODE 3510-22-P